DEPARTMENT OF THE INTERIOR

Fish and Wildlife Service

50 CFR Part 17

[Docket No. FWS-R8-ES-2014-0007; FXES11130900000-156-FF09E42000]

RIN 1018-AY82

Endangered and Threatened Wildlife and Plants; 12-Month Finding on a Petition To Downlist the Arroyo Toad, and a Proposed Rule To Reclassify the Arroyo Toad as Threatened

AGENCY: Fish and Wildlife Service, Interior.

ACTION: Proposed rule; reopening of the comment period.

SUMMARY: We, the U.S. Fish and Wildlife Service (Service), announce the reopening of the public comment period on our March 27, 2014, proposed rule to reclassify the arroyo toad (Anaxyrus californicus) as threatened under the Endangered Species Act of 1973, as amended (Act). We are taking this action to solicit feedback on new information we received. Comments previously submitted need not be resubmitted, as they will be fully considered in preparation of the final listing determination. We anticipate publishing a final determination on or before March 27, 2015.

DATES: We will consider comments received or postmarked on or before November 17, 2014. Comments submitted electronically using the Federal eRulemaking Portal (see ADDRESSES section, below) must be received by 11:59 p.m. Eastern Time on the closing date. Any comments that we receive after the closing date may not be considered in the final decision on this action.

ADDRESSES: Document availability: You may obtain copies of the proposed rule and associated documents, including the new information discussed in this document, on the Internet at http://www.regulations.gov at Docket No. FWS-R8-ES-2014-0007, or by contacting the U.S. Fish and Wildlife Service, Ventura Fish and Wildlife Office (see FOR FURTHER INFORMATION CONTACT).

Written comments: You may submit written comments by one of the following methods:

(1) Electronically: Go to the Federal eRulemaking Portal: http://www.regulations.gov. In the Search box, enter FWS-R8-ES-2014-0007, which is the docket number for the rulemaking. Then, in the Search panel on the left side of the screen, under the Document Type heading, click on the Proposed Rules link to locate the document. You may submit a comment by clicking on “Comment Now!”

(2) By hard copy: Submit by U.S. mail to: Public Comments Processing, Attn: FWS-R8-ES-2014-0007; Division of Policy and Directives Management; U.S. Fish and Wildlife Service; MS: BPHC; 5275 Leesburg Pike; Falls Church, VA 22041-3803.

We request that you send comments only by one of the methods described above. We will post all comments on http://www.regulations.gov. This generally means that we will post any personal information you provide us (see the Information Requested section, below, for more information).

FOR FURTHER INFORMATION CONTACT: Stephen P. Henry, Field Supervisor, U.S. Fish and Wildlife Service, Ventura Fish and Wildlife Office, 2493 Portola Road, Suite B, Ventura, CA 93003; telephone 805-644-1766; facsimile 805-644-3958. Persons who use a telecommunications device for the deaf (TDD) may call the Federal Information Relay Service (FIRS) at 800-877-8339.

SUPPLEMENTARY INFORMATION:

Background

In December 2011, we received a petition to reclassify the arroyo toad from endangered to threatened, based on analysis and recommendations contained in our August 2009 5-year status review of the species. On June 4, 2012, we published a 90-day finding that the petition presented substantial information indicating that reclassifying the arroyo toad may be warranted (77 FR 32922) and initiated a status review. After review of all available scientific and commercial information, we found that the petitioned action was warranted, and we proposed to reclassify the arroyo toad from an endangered species to a threatened species on the Federal List of Endangered and Threatened Wildlife on March 27, 2014 (79 FR 17106).

New Information

Since publication of the March 27, 2014, proposed rule, we have received new information that we are making available to the public prior to making a final determination on the proposed action. In accordance with the Service's July 1, 1994, peer review policy (59 FR 34270) and the Office of Management and Budget's December 16, 2004, Final Information Quality Bulletin for Peer Review, the Service requested independent expert peer review of the proposed rule and supporting scientific analyses. The purpose of seeking independent peer review is to ensure use of the best scientific and commercial information available and to ensure and maximize the quality, objectivity, utility, and integrity of the information upon which the proposal is based, as well as to ensure that reviews by qualified experts are incorporated into the rulemaking process. One peer review was inadvertently not posted in the docket on http://www.regulations.gov prior to May 27, 2014 (the closing date of the March 27, 2014, proposed rule's comment period). We are making that peer review available now on http://www.regulations.gov at Docket No. FWS-R8-ES-2014-0007. Additionally, reopening the comment period for the proposed rule will allow for submittal of additional peer reviews requested by the Service but not received during the previous comment period, as well as other public comments. Any additional peer reviews, as well as any other comments we receive, will be made available on http://www.regulations.gov at Docket No. FWS-R8-ES-2014-0007.

Information Requested

We will accept written comments and information during this reopened comment period on our proposed downlisting for the arroyo toad that published in the Federal Register on March 27, 2014 (79 FR 17106). We will consider information and recommendations from all interested parties. We intend that any final action resulting from the proposal be as accurate as possible and based on the best available scientific and commercial data.

We are particularly interested in new information and comments regarding:

(1) Reasons why we should or should not reclassify the arroyo toad under the Act (16 U.S.C. 1531 et seq.).

(2) New biological or other relevant data concerning any threat (or lack thereof) to this species.

(3) New information concerning the distribution and population size or trends of this species.

(4) New information on the current or planned activities within the range of the arroyo toad that may adversely affect or benefit the species.

(5) New information and data on the projected and reasonably likely impacts to the arroyo toad or its habitat associated with climate change.

(6) New information on threats or impacts to the arroyo toad in the Mexico portion of its range.

If you submitted comments or information on the proposed rule (79 FR 17106) during the initial comment period from March 27, 2014, to May 27, 2014, please do not resubmit them. We have incorporated them into the public record, and we will consider them in the preparation of our final determination. Our final determination concerning the proposed downlisting will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed downlisting rule will be available for public inspection on http://www.regulations.gov at Docket No. FWS-R8-ES-2014-0007, or by appointment, during normal business hours, at the U.S. Fish and Wildlife Service, Ventura Fish and Wildlife Office (see FOR FURTHER INFORMATION CONTACT). You may obtain copies of the proposed rule on the Internet at http://www.regulations.gov at Docket No. FWS-R8-ES-2014-0007, or at the U.S. Fish and Wildlife Service, Ventura Fish and Wildlife Office (see FOR FURTHER INFORMATION CONTACT).

Authority

The authority for this action is the Endangered Species Act of 1973, as amended (16 U.S.C. 1531 et seq.).

Dated: October 6, 2014.
Stephen Guertin,
Acting Director, U.S. Fish and Wildlife Service.

[FR Doc. 2014-24548 Filed 10-16-14; 8:45 am]

BILLING CODE 4310-55-P